DEPARTMENT OF COMMERCE

Foreign-Trade Zones Board

[S-51-2017]

Approval of Subzone Status; Expeditors International of Washington, Inc.; Inwood, New York

On April 3, 2017, the Executive Secretary of the Foreign-Trade Zones (FTZ) Board docketed an application submitted by the County of Orange, grantee of FTZ 37, requesting subzone status subject to the existing activation limit of FTZ 37, on behalf of Expeditors International of Washington, Inc., in Inwood, New York.

The application was processed in accordance with the FTZ Act and Regulations, including notice in the Federal Register inviting public comment (82 FR 16786, April 6, 2017). The FTZ staff examiner reviewed the application and determined that it meets the criteria for approval. Pursuant to the authority delegated to the FTZ Board Executive Secretary (15 CFR Sec. 400.36(f)), the application to establish Subzone 37E was approved on May 31, 2017, subject to the FTZ Act and the Board's regulations, including Section 400.13, and further subject to FTZ 37's 2,000-acre activation limit.

Dated: June 13, 2017.
Andrew McGilvray,
Executive Secretary.

[FR Doc. 2017-12653 Filed 6-16-17; 8:45 am]

BILLING CODE 3510-DS-P